DEPARTMENT OF HEALTH AND HUMAN SERVICES

Health Resources and Services Administration

Agency Information Collection Activities: Proposed Collection: Public Comment Request; Information Collection Request Title: The Maternal, Infant, and Early Childhood Home Visiting Program Statewide Needs Assessment Update

AGENCY: Health Resources and Services Administration (HRSA), Department of Health and Human Services.

ACTION: Notice.

SUMMARY: In compliance with the requirement for opportunity for public comment on proposed data collection projects of the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than October 28, 2024.

ADDRESSES: Written comments and recommendations for the proposed information collection should be sent within 30 days of publication of this notice to www.reginfo.gov/public/do/PRAMain. Find this information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION: When submitting comments or requesting information, please include the ICR title for reference.

Information Collection Request Title: The Maternal, Infant, and Early Childhood Home Visiting Program Statewide Needs Assessment Update—Amendment, OMB No. 0906-0038—Revision.

Abstract: HRSA is requesting approval to collect amended statewide needs assessment updates from Maternal, Infant, and Early Childhood Home Visiting (MIECHV) Program awardees. The 2020 statewide needs assessment update approved under OMB control number 0906-0038 expired November 30, 2021, and is discontinued. The prior approval was discontinued as the requirement was for a one-time data collection in response to the 2018 reauthorizing statute. Eligible entities that are states, jurisdictions, and non-profit organizations submitted statewide needs assessment updates in response to the 2020 Needs Assessment Update Supplemental Information Request (SIR) (and a corresponding SIR for jurisdiction awardees). While eligible entities are not required by law to update their statewide needs assessments, those that wish to amend their previously submitted needs assessment updates will have the opportunity to do so prior to submitting their fiscal year 2025 base and matching grant funding applications and in response to reissued instructions provided by the agency for this purpose. This request will reinstate this information collection with updated instructions. The updated instructions will be for awardees who request to amend their needs assessment update in advance of their fiscal year 2025 funding application.

The MIECHV Program, authorized by section 511 of the Social Security Act, 42 U.S.C. 711, and administered by HRSA in partnership with the Administration for Children and Families, supports voluntary, evidence-based home visiting services during pregnancy and to parents with young children up to kindergarten entry. States, jurisdictions, tribal entities, and nonprofit organizations, in certain circumstances, are eligible to receive funding through MIECHV and have the flexibility, within the parameters of the authorizing statute, to tailor the program to serve the specific needs of their communities. The statewide needs assessment is a critical and foundational resource that assists awardees in identifying and understanding how to meet the needs of eligible families living in at-risk communities in their states, especially as awardees make decisions about how to expand service delivery in their states with annual increases in MIECHV matching grants.

A 60-day notice was published in the Federal Register on May 24, 2024 at 89 FR 45903-04. HRSA received four comments from interested parties and MIECHV-funded program administrators. The first comment discussed interest in HRSA providing updated data tables (similar to those provided to awardees for the 2020 needs assessment update), subpopulation level data, requesting additional funding to facilitate the needs assessment update, and concerns about removing services from previously served communities. HRSA considered this comment; however, no changes will be made to the information collection, which allows for awardees to amend their statewide needs assessment update that was submitted and approved in response to the 2020 SIR guidance by identifying additional at-risk communities and does not require that awardees conduct a full needs assessment update at this time. Because a full needs assessment update is not required, HRSA is not providing funding or updated data. HRSA is providing flexibility for awardees to cite their own data to identify at-risk communities. The primary focus of the current information collection allows MIECHV awardees to identify additional at-risk communities where families with the most need are located using national, state, or local data sources to support their selection, with no collection of information regarding potential removal of services from currently served communities.

The second comment discussed concerns regarding the structure of the needs assessment update submission timeline and limitations of the needs assessment criteria for serving specific populations, such as communities experiencing homelessness. HRSA considered this comment; however, no changes will be made to the information collection because instructions have already provided flexibility for awardees to leverage data sources across programs and systems, such as data regarding families' housing status, to provide justification for their selections of additional at-risk communities. Rather than completing a full needs assessment, HRSA is asking awardees for updated information on additional at-risk counties and minimal edits to previously approved statewide needs assessments and anticipates that the information collection can be achieved in a short timeline.

The third comment discussed the benefits of promoting coordination and referrals across early childhood systems and services within states and communities through the inclusion of other statewide needs assessments and additional data sources for identifying at-risk counties. The comment also suggested that HRSA's guidance allow for awardees to cite data from other needs assessment and state-level early childhood grants, such as those funded through the Preschool Development Grant Birth through Five. HRSA considered this comment; however, no changes will be made to the information collection because the 2020 SIR guidance has already provided flexibility for awardees to leverage national, state, or local data sources across programs and systems to provide justification for their selections of additional at-risk communities.

The fourth comment discussed the accuracy of the burden estimate and the usage of automated collection techniques to minimize the information collection burden. HRSA considered this comment; however, no changes will be made to the information collection because the burden estimate reflects that the instructions only require respondents to add additional communities and provide supporting data and narrative for only those additions, rather than completing a full needs assessment that will support an increased burden estimate, and based on similar data collection and grant reporting requirements, this burden estimate reflects and aligns with the experience of awardees.

Need and Proposed Use of the Information: Congress, through enactment of the Social Security Act, title V, section 511 (42 U.S.C. 711), as amended, established the MIECHV Program. The MIECHV Program is designed to: (1) strengthen and improve the programs and activities carried out under title V of the Social Security Act, (2) improve coordination of services for at-risk communities, and (3) identify and provide comprehensive services to improve outcomes for families who reside in at-risk communities. Section 511(b)(1) of the Social Security Act requires that states review and update their statewide needs assessments (which may be separate from, but in coordination with, the Title V statewide needs assessment) no later than October 1, 2020, as a condition of receiving payments from Title V Block Grant allotments. Since completing the needs assessment update, state and jurisdiction awardees may wish to amend their needs assessment update to identify additional communities where families with the most need are in their state or jurisdiction.

In response to the 2020 Needs Assessment Update SIR, state and jurisdiction awardees were required to submit an updated statewide needs assessment that identified all the following information, as required by the MIECHV authorizing statute:

(1) Communities with concentrations of (a) premature birth, low-birth weight infants, and infant mortality, including infant death due to neglect, or other indicators of at-risk prenatal, maternal, newborn, or child health; (b) poverty; (c) crime; (d) domestic violence; (e) high rates of high school drop-outs; (f) substance abuse; (g) unemployment; or (h) child maltreatment.

(2) The quality and capacity of existing programs or initiatives for early childhood home visitation in the state including the number and types of individuals and families who are receiving services under such programs or initiatives, the gaps in early childhood home visitation in the state, and the extent to which such programs or initiatives are meeting the needs of eligible families.

(3) The state's capacity for providing substance abuse treatment and counseling services to individuals and families in need of such treatment or services.

The SIR provided guidance to states in updating their statewide needs assessments and submitting the required information to HRSA. States that elected not to apply or be awarded MIECHV funds were encouraged to work with nonprofit organizations that received awards to provide MIECHV-supported services within the state and determine whether they will submit their needs assessments directly or through the nonprofit organization awardee. HRSA and recipients providing MIECHV services within states used the information collected through the needs assessment update to ensure the continued provision of MIECHV home visiting services in at-risk communities. The information is also used to support program planning, improvement, and decision-making. States wishing to amend their needs assessment will be asked to provide new information and supporting data. HRSA will provide specific instructions on timeline and the amendment process to awardees who request to amend their needs assessment update in advance of their fiscal year 2025 funding application. HRSA is not proposing any changes to the previously approved Needs Assessment SIR.

Likely Respondents: MIECHV Program Awardees that are states, jurisdictions, and where applicable, nonprofit organizations providing services within states. Based on preliminary interest expressed by MIECHV awardees to date, HRSA anticipates that approximately 35 of the 56 awardees may respond to this opportunity.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. Burden hours reflect that existing needs assessments will be amended rather than fully developed.

Total Estimated Annualized Burden Hours
Form name | Number of respondents | Number of responses per respondent | Total responses | Average burden per response (in hours) | Total burden hours
Maternal, Infant, and Early Childhood Home Visiting Program Statewide Needs Assessment Update—Amended | 35 | 1 | 35 | 30 | 1,050
Total | 35 |  | 35 |  | 1,050

Maria G. Button,
Director, Executive Secretariat.

[FR Doc. 2024-22182 Filed 9-26-24; 8:45 am]

BILLING CODE 4165-15-P